DEPARTMENT OF COMMERCE

National Oceanic and Atmospheric Administration

50 CFR Part 648

[Docket No. 041110317-4364-02; I.D. 030305D]

Fisheries of the Northeastern United States; Summer Flounder Fishery; Quota Transfer

AGENCY: National Marine Fisheries Service (NMFS), National Oceanic and Atmospheric Administration (NOAA), Commerce.

ACTION: Commercial summer flounder quota transfer from North Carolina to Virginia.

SUMMARY: NMFS announces that the State of North Carolina is transferring 243,292 lb (110,357 kg) of commercial summer flounder quota to the Commonwealth of Virginia from its 2005 quota. By this action, NMFS adjusts the quotas and announces the revised commercial quota for each state involved.

DATES: Effective March 4, 2005 through December 31, 2005.

FOR FURTHER INFORMATION CONTACT: Mike Ruccio, Fishery Management Specialist, (978) 281-9104, FAX (978) 281-9135.

SUPPLEMENTARY INFORMATION: Regulations governing the summer flounder fishery are found at 50 CFR part 648. The regulations require annual specification of a commercial quota that is apportioned among the coastal states from North Carolina through Maine. The process to set the annual commercial quota and the percent allocated to each state are described in § 648.100.

The initial total commercial quota for summer flounder for the 2005 calendar year was set equal to 18,180,002 lb (8,246,395 kg). The percent allocated to vessels landing summer flounder in North Carolina is 27.44584 percent, and in Virginia is 21.31676 percent. This resulted in an initial commercial quota for North Carolina of 4,989,654 lb (2,263,292 kg), and for Virginia of 3,875,387 (1,757,864 kg) (70 FR 303, January 4, 2005). The 2005 allocation for North Carolina was further reduced to 4,932,017 lb (2,237,148 kg), and for Virginia to 3,830,622 lb (1,737,559 kg), due to research set-aside.

The final rule implementing Amendment 5 to the FMP that was published on December 17, 1993 (58 FR 65936), provided a mechanism for summer flounder quota to be transferred from one state to another. Two or more states, under mutual agreement and with the concurrence of the Administrator, Northeast Region, NMFS (Regional Administrator), can transfer or combine summer flounder commercial quota under § 648.100(d). The Regional Administrator is required to consider the criteria set forth in § 648.100(d)(3) in the evaluation of requests for quota transfers or combinations.

North Carolina has agreed to transfer 243,292 lb (110,357 kg) of its 2005 commercial quota to Virginia. The Regional Administrator has determined that the criteria set forth in § 648.100(d)(3) have been met. The revised quotas for calendar year 2005 are: North Carolina, 4,688,725 lb (2,126,806 kg); and Virginia, 4,073,914 lb (1,847,927 kg).

Classification

This action is taken under 50 CFR part 648 and is exempt from review under Executive Order 12866.

Authority: 16 U.S.C. 1801 et seq.

Dated: March 3, 2005.
Alan D. Risenhoover,
Acting Director, Office of Sustainable Fisheries, National Marine Fisheries Service.

[FR Doc. 05-4607 Filed 3-4-05; 3:39 pm]

BILLING CODE 3510-22-S